DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of January 11, 2016 through February 5, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) The workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
86,060 | Worthington Industries, Inc, Engineered Cabs Division, Olsten Staffing, Spherion Staffing, etc | Florence, SC | June 3, 2014.
86,089 | Huntington Alloys Corporation, Special Metals Division, Special Metals Corporation, Kelly Services | Huntington, WV | June 10, 2014.
90,101 | Vallourec Star, LP, Vallourec Group NA, Midwest Industrial Contract Services, LLC, etc | Youngstown, OH | January 1, 2014.
91,037 | Paramount Apparel International, Inc, Domestic Cut & Sew Division | Winona, MO | October 7, 2014.
91,195 | Dunkirk Power LLC, NRG Energy, Inc, Pontoon Solutions, Inc | Dunkirk, NY | December 4, 2014.
91,257 | Huntley Power LLC, NRG Energy, Inc, Pontoon Solutions, Inc | Tonawanda, NY | December 22, 2014.

The following certifications have been issued. The requirements of Section 222(a)(2)(B) (shift in production or services) of the Trade Act have been met.

TA-W No. | Subject firm | Location | Impact date
85,153 | Staples, Inc, Global Technology, IT HelpDesk Support Division | Framingham, MA | March 14, 2013.
85,237 | Hyundia America Shipping Agency, Inc, Charlotte Regional Customer Service Center | Charlotte, NC | March 31, 2013.
85,249 | Mitel, Inc, Solutions Validation Engineering Department, R&D Lab | Mesa, AZ | April 19, 2013.
85,267 | Support.com, Inc | Redwood City, CA | April 18, 2013.
85,395 | StreetLinks Lender Solutions, Aerotek, Appletree Staffing, Infinity Staffing, etc | Indianapolis, IN | June 13, 2013.
85,615 | Trane U.S. Inc, Tyler Operations/Residential HVAC, Ingersoll-Rand, Remedy Intelligent Staff | Tyler, TX | November 24, 2014.
85,705 | KeyBank, NA, Operations Balance and Control Department, Account Temps, etc | Brooklyn, OH | December 7, 2013.
85,771 | Eastman Kodak Company, CFG-Finance, Planning and Analysis Division, Adecco | Rochester, NY | January 19, 2014.
85,812 | Deluxe 3D LLC, Deluxe Entertainment Services Group, etc | Burbank, CA | February 3, 2014.
85,918 | Interactive Data Corporation, PRD Division | Bedford, MA | March 16, 2014.
85,949 | Asset Acceptance, LLC, Encore Capital Group, Customer Service and Support (CSS) Department | Warren, MI | April 20, 2014.
90,032 | Infineon Technologies Americas Corp., International Rectifier, Targetcw, Top Echelon, and Ultimate Staffing | El Segundo, CA | January 1, 2014.
90,060 | Lenovo (United States) Inc, Enterprise Business Group, Lenovo Holding Company, Inc | Morrisville, NC | January 1, 2014.
90,069 | First Advantage Background Services Corp., Verifications, Inc, Tapfin | Watertown, SD | January 1, 2014.
90,107 | Morgan Stanley & Company, LLC, Finance Division, Pride Technologies | New York, NY | January 1, 2014.
90,124 | McKesson Corp., Contract Administration Division, McKesson, Insight Global | Carrollton, TX | January 1, 2014.
90,157 | L.A. Darling Company, Gondola Division, People Source and Hometown Employment | Corning, AR | January 1, 2014.
90,172 | Maxim Integrated Products, Inc | Dallas, TX | January 1, 2014.
90,188 | AXA Equitable Life Insurance Company, Re-Insurance and HR-Payroll Group, AXA Financial, Inc, Kelly, etc | Syracuse, NY | January 1, 2014.
90,260 | SK&A Information Services, Inc, Research Division, IMS Health Technology Solutions, Appleone Grange, etc | Irvine, CA | January 1, 2014.
91,021 | Triumph Aerostructures, Vought Aircraft Division, Aeorstructures Contract Employees, Inc, etc | Grand Prairie, TX | March 20, 2015.
91,091 | Caterpillar Precision Seals, Caterpillar, Inc, Franklin Division, Spherion, Manpower, Phillips, etc | Franklin, NC | October 30, 2014.
91,108 | Volcano Corporation, Aerotek Staffing | Rancho Cordova, CA | September 24, 2015.
91,109 | Hoffman Enclosures, Inc, Technical Solutions, Pentair, Adecco, Kentucky Staffing Solutions, Aerotek | Mt. Sterling, KY | November 4, 2014.
91,122 | Alcoa Intalco Works, AnovaWorks, PLLC, GCA Services Group, etc | Ferndale, WA | November 9, 2014.
91,125 | Wenatchee Works, Alcoa, Inc, AnovaWorks, PLLC, etc | Malaga, WA | November 6, 2014.
91,145 | Joy Global Underground Mining, LLC, All Seasons Temporaries, Inc | Franklin, PA | November 27, 2015.
91,145A | On-Site Leased Workers from Technical Solutions, Inc, etc, Precision Resource Company, ACS Engineering Group, etc | Franklin, PA | November 16, 2014.
91,156 | The Guardian Life Insurance Company of America, Kelly Services | Appleton, WI | November 18, 2014.
91,174 | SourceMedia LLC, Trinet | New York, NY | November 23, 2014.
91,178 | Energizer Holdings, Inc, Staff Management/SMX | Bennington, VT | November 25, 2014.
91,179 | J.P. Morgan Chase & Company, Commerical Banking Credit Services Administration Group | Louisville, KY | November 25, 2014.
91,191 | Farrowmed Innovations LLC, BSN Medical, Farrowmed LLC, Express Employment Professionals | Bryan, TX | November 24, 2014.
91,193 | KIK Custom Products, KIK International LLC, Select Staffing | Los Angeles, CA | December 3, 2014.
91,197 | Mercer HR Services, LLC, Mercer (US) Inc, Pontoon Solutions, Inc | Dallas, TX | December 4, 2014.
91,203 | Tango Networks, Inc, Trinet | Frisco, TX | December 7, 2014.
91,205 | KBR, Inc, Technical Staffing Resources | Houston, TX | December 8, 2014.
91,217 | Flextronics America, LLC, Flextronics International USA, Inc | West Columbia, SC | December 10, 2014.
91,221 | Rockwood Lithium, Inc, Lithium Division, Albemarle Corporation | New Johnsonville, TN | December 11, 2014.
91,224 | GM Subsystems Manufacturing, LLC, General Motors Company | Lake Orion, MI | December 14, 2014.
91,233 | Thermo Fisher Scientific, ATR, Adecco, Aerotek and Kelly Services | Austin, TX | December 15, 2014.
91,239 | Umicore Optical Materials USA Inc, Substrates Division, Umicore USA, Inc, Express Employment Professionals | Quapaw, OK | December 17, 2014.
91,240 | Static Control Components, Inc | Sanford, NC | December 18, 2014.
91,244 | Amphenol Corporation, Aerospace and Industrial Division | Sidney, NY | December 3, 2015.
91,245 | Concentrix, Synnex | Greenville, SC | December 18, 2014.
91,256 | Electrofilm Manufacturing Company LLC, Envirotech LLC, Aerotek Commercial Staffing, Ronin Staffing LLC, etc | Valencia, CA | December 21, 2014.
91,270 | Eaton Corporation, Cooper Power Systems Division, Aerotek Staffing and Adecco | Pewaukee, WI | January 25, 2016.
91,291 | Alorica | Omaha, NE | December 24, 2014.
91,333 | Emerson Network Power, Emerson, Liebert Corporation and Liebert North America, Inc | Delaware, OH | February 21, 2016.
91,338 | EnerSys, EnerSys Delaware Inc, RG Staffing and Robert Half Management Resources | Cleveland, OH | January 12, 2015.
91,358 | Ruhrpumpen, Inc, The Addison Group, Abundant Solutions, The Rowland Group, etc | Tulsa, OK | January 15, 2015.

Negative Determinations for Worker Adjustment Assistance

In the following cases, the investigation revealed that the eligibility criteria for worker adjustment assistance have not been met for the reasons specified.

The investigation revealed that the criterion under paragraph (a)(1) or (b)(1) (employment decline or threat of separation) of section 222 has not been met.

TA-W No. | Subject firm | Location | Impact date
85,317 | Child Care Services, Boaz Eagle Corps Investments | Courtland, MS.
85,878 | MicroTelecom Systems LLC | Uniondale, NY.
85,965 | Cathedral Art Metal Company, Inc | Providence, RI.
90,167 | International Business Machines (IBM), Mainframe Service Delivery, Artech Information Systems LLC | Seattle, WA.
91,283 | Rapids Process Equipment, Inc | Cohasset, MN.

The investigation revealed that the criteria under paragraphs (a)(2)(A)(i) (decline in sales or production, or both) and (a)(2)(B) (shift in production or services to a foreign country) of section 222 have not been met.

TA-W No. | Subject firm | Location | Impact date
90,154 | AVA Design LLC | New York, NY

The investigation revealed that the criteria under paragraphs(a)(2)(A) (increased imports) and (a)(2)(B) (shift in production or services to a foreign country) of section 222 have not been met.

TA-W No. | Subject firm | Location | Impact date
85,001 | Boehringer Ingelheim Chemicals, Inc. (BICI), Boehringer Ingelheim, Mechanical, Industrial Turnaround, etc | Petersburg, VA
85,055 | Associated Creditors Exchange, Inc., D/B/A Ace Global | Phoenix, AZ
85,103 | Guru Denim, Inc., True Religion Apparel, Inc | Vernon, CA
85,139 | Syncreon US Inc., Malone, Sentech, Drive Source, and Midwest | Sterling Heights, MI
85,583 | Metalfab Tool & Machine, Inc | Mio, MI
85,865 | Harland Clarke Corp., Base Stock Plant/Specialty Products, Account Temps, Robert Half, etc | San Antonio, TX
85,968 | Wolff Fording and Company, Partnership Staffing | Richmond, VA
90,090 | Hallmark Cards, Inc. and Hallmark Marketing Company, LLC, Guidant Group and Staffmark | Enfield, CT
90,092 | Geokinetics, Inc., Geokinetics, USA, Inc., Greyco Seismic Personnel Services | Houston, TX
90,099 | Smith's Medical ASD, Inc., Adecco | Rockland, MA
90,210 | Uni-Select USA, Uni-Select USA Holdings, Inc | Tonawanda, NY
90,211 | UnitedHealth Group, Optum Shared Services Transactions Division, etc | Trumbull, CT
91,218 | Mesabi Radial Tire Company, 1801 5th Avenue East | Hibbing, MN

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
86,101 | Paragon Store Fixtures | Big Lake, MN
86,126 | SSAC (Solid State Advanced Controls), Littelfuse, Inc., Adecco, Carr Recruiting Solutions, etc | Baldwinsville, NY
90,148 | Molycorp Minerals LLC | Mountain Pass, CA
91,062 | Unipower LLC | Dunlap, TN

The following determinations terminating investigations were issued because the petitions are the subject of ongoing investigations under petitions filed earlier covering the same petitioners.

TA-W No. | Subject firm | Location | Impact date
91,061 | Johnson Metall, Inc | Lorain, OH
91,271 | AVX Corporation, Kyocera Corporation | Myrtle Beach, SC
91,271A | AVX Corporation, Kyocera Corporation | Conway, SC
91,295 | Allegheny Technologies Incorporated | Midland, PA
91,362 | JDS Uniphase/Lumentum | Bloomfield, CT

I hereby certify that the aforementioned determinations were issued during the period of January 11, 2016 through February 5, 2016. These determinations are available on the Department's Web site www.tradeact/taa/taa_search_form.cfm under the searchable listing of determinations or by calling the Office of Trade Adjustment Assistance toll free at 888-365-6822.

Signed at Washington, DC, this 11th day of February 2016.
Jessica R. Webster,
Certifying Officer, Office of Trade Adjustment Assistance.

[FR Doc. 2016-04003 Filed 2-24-16; 8:45 am]

BILLING CODE 4510-FN-P